DEPARTMENT OF COMMERCE

National Oceanic and Atmospheric Administration

[I.D. 032801B]

Magnuson-Stevens Act Provisions; Fishing Capacity Reduction Program; Crab Species Covered by the Fishery Management Plan for Bering Sea/Aleutian Islands King and Tanner Crabs

AGENCY: National Marine Fisheries Service, National Oceanic and Atmospheric Administration, Commerce.

ACTION: Notice of invitation to bid.

SUMMARY: The National Marine Fisheries Service issues this notice to inform persons whom it invites to bid in the fishing capacity reduction program for the crab species covered by the Fishery Management Plan for Bering Sea/Aleutian Islands king and tanner crabs.

ADDRESSES: Direct any questions about this notice to Michael L. Grable, Chief, Financial Services Division, National Marine Fisheries Service, 1315 East-West Highway, Silver Spring, MD 20910-3282.

Any person who wants to contact the National Marine Fisheries Service's Restricted Access Management Program (which issues crab species licenses) may do so at: Restricted Access Management Program, National Marine Fisheries Service, P.O. Box 21668, Juneau, AK 99802-1668.

FOR FURTHER INFORMATION CONTACT: Michael L. Grable, (301) 713-2390.

SUPPLEMENTARY INFORMATION: Section 144(d) of Division B of Public Law 106-554, as amended, authorized this fishing capacity reduction program (program). The program's objective is reducing harvesting capacity in the Bering Sea/Aleutian Islands crab fishery. This will help financially stabilize this limited-entry fishery and manage its fish.

The National Marine Fisheries Service (we) published proposed program regulations on December 12, 2002 (67 FR 76329). We published final program regulations on December 12, 2003 (68 FR 69331 et seq.). We published a notice of qualifying bidders and voters on December 22, 2003 (68 FR 71082). Interested persons should carefully review these documents for full details about the program. Interested persons may obtain the documents from Michael L. Grable (see ADDRESSES). The documents are also posted on our Alaska Regional Office's website at http://www.fakr.noaa.gov/sustainablefisheries/crab/faq.htm.

The final program regulations require us to publish this notice.

This is a voluntary program. In exchange for reduction payments, accepted bidders will permanently relinquish their fishing licenses and their fishing vessels' catch histories and fishing privileges.

The program's maximum cost cannot exceed $100 million. A 30-year loan will finance 100 percent of whatever the cost turns out to be. Future crab landing fees will repay the loan.

We attach, as addendum 1, a facsimile of the invitation to bid (invitation) which we will use to invite bids from persons on our list of qualifying bidders. We also attach, as addendum 2, a facsimile of the bidding form and terms of capacity reduction agreement (reduction contract) which qualifying bidders will use to make bid offers. These addenda state all other applicable bid submission requirements and procedures. All bidders must bid in strict accordance with the invitation and reduction contract. We may reject any bids which do not.

Bidding will open on March 5, 2004. Bidding will close on April 23, 2004. Bidders should not bid before bidding opens. We will not accept bids which our Financial Services Division in Silver Spring, MD, first receives after bidding closes.

After publishing this notification but before bidding opens, we will mail a bidding package to each person then on, and at the address in, our qualifying bidder list. We will mail the bidding packages not later than February 27, 2004. Each bidding package will contain the invitation and the reduction contract, as well as questions and answers about bidding and other program details. We will reject any bid a bidder submits on any form other than the bidding form portion of the reduction contract in the bidding package which we send to the bidder.

Before mailing bidding packages, we will update our qualifying bidders list to include all intervening changes in the Restricted Access Management (RAM) Program's crab license database (upon which our list is based).

Bidders who first become qualifying bidders after we send our bidding packages may request a bidding package by contacting Michael L. Grable (see ADDRESSES).

After receiving bidding packages and bidding opens, qualifying bidders (along with co-bidders where appropriate) who wish to bid must submit their irrevocable bid offers to our Silver Spring, MD, Financial Services Division in time for that Division to have received them before bidding closes.

We will score each bid amount against the dollar value of the bidder's documented crab harvests during the bid scoring period. We will get each bidder's documented crab harvest data directly from the State of Alaska, and no bidder need attempt to include any crab harvest data in its bid. We will, in a reverse auction, then accept each bid whose amount is the lowest percentage of the bidder's ex-vessel revenues until either the $100 million is fully committed or no other responsive bid remains to be accepted. Bid acceptances create reduction contracts between the United States and the bidders.

Next, we will conduct a referendum about the crab landing fees required to repay the potential reduction loan. We will mail a voting package to each person then on, and at the address in, our qualifying voter list. This will include a detailed synopsis of accepted bids (e.g., capacities reduced, reduction costs, and prospective loan repayment fees) by area/species endorsement categories. It will also include a ballot as well as questions and answers about voting and other program details.

Reduction contracts will become inoperable unless at least two thirds of the referendum votes cast approve the landing fee.

If the referendum is successful, we will then mail a bid acceptance notice to each accepted bidder. This will be the bidder's first advice that we accepted its bid. The notice will also state that a successful referendum fulfilled the one condition to reduction contract performance.

We will also publish a 30-day reduction payment tender notice in the Federal Register. Afterwards, we will tender reduction payments to accepted bidders and complete the program.

Any bid whose bidder we have not previously notified of the bid's acceptance or rejection will, in any event, expire on September 17, 2004. We will, however, have notified all bidders well before this date.

If the referendum is unsuccessful, we will consider whether circumstances warrant issuing another invitation.

Our notice of qualifying bidders and voters included only one license holder name and mailing address for each crab license listed. We note that some crab licenses are co-held by more than one person, corporation, or partnership. Where this is the case, our notice included only the co-holder, and its mailing address, whom the RAM Program's crab license database inferred as the designated contact for the other co-holders.

Nevertheless, all co-holders must sign each bid involving a co-held license. Even if a qualifying bidder's crab license is co-held, we will mail the bidding package only to the designated contact co-holder at the address specified in our notice. We will, however, notify the other co-holders that we have done so. Each designated contact co-holder will be responsible to ensure that all co-holders sign the bid as the qualifying bidder. We will reject any bid involving a co-held license unless all co-holders sign the bid as the qualifying bidder.

Do not confuse the terms “co-holder” and “co-owner” with the term “co-bidder”. Co-bidders are involved only when a bid's reduction/privilege vessel is owned by someone other than the qualifying bidder who holds the crab license included in the bid as the crab reduction permit. In each bid involving a co-bidder, the crab license holder or co-holders must sign the bid as the qualifying bidder and the reduction/privilege vessel owner or co-owners must sign the bid as a co-bidder. Like qualifying bidders who are co-owned, co-bidders who are co-owned must also have all co-owners sign the bid.

Authority: 5 U.S.C. 561, 16 U.S.C. 1801 et seq., 16 U.S.C. 1861a(b) through (e), 46 App. U.S.C. 1279f and 1279g, section 144(d) of Division B of Pub. L. 106-554, section 2201 of Pub. L. 107-20, and section 205 of Pub. L. 107-117.

[The addenda will not be codified in the Code of Federal Regulations]

BILLING CODE 3510-22-S

Dated: February 10, 2004.
William T. Hogarth,
Assistant Administrator for Fisheries, National Marine Fisheries Service.

[FR Doc. 04-3393 Filed 2-13-04; 8:45 am]

BILLING CODE 3510-22-S